DEPARTMENT OF HEALTH AND HUMAN SERVICES

Health Resources and Services Administration

Agency Information Collection Activities: Submission to OMB for Review and Approval; Public Comment Request; Home Visiting Assessment of Implementation Quality Study: Exploring Family Voice and Leadership in Home Visiting

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than May 3, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: Home Visiting Assessment of Implementation Quality Study: Exploring Family Voice and Leadership in Home Visiting, OMB No. 0915-xxxx-[NEW].

Abstract: The Maternal, Infant, and Early Childhood Home Visiting (MIECHV) program, authorized by Social Security Act, Title V, § 511 (42 U.S.C. 711) and administered by HRSA in partnership with the Administration for Children and Families, supports voluntary, evidence-based home visiting services during pregnancy and for parents with young children up to kindergarten entry. States, tribal entities, and certain nonprofit organizations are eligible to receive funding from the MIECHV Program and have the flexibility to tailor the program to serve the specific needs of their communities. Funding recipients may subaward grant funds to local implementing agencies (LIAs) to provide home visiting services to eligible families in at-risk communities.

Through the Home Visiting Assessment of Implementation Quality Study, HRSA aims to examine specific components of the Home Visiting Implementation Quality Conceptual Framework to inform strategies for implementing high quality home visiting programs. One of the three quality components the study will focus on is family voice and leadership (FVL), which involves including families in decisions related to program implementation. The requested information collection will provide a better understanding of how MIECHV-funded home visiting programs currently engage families and will provide preliminary information on how FVL may influence home visiting implementation and program quality. Information collection activities include two online surveys, focus groups, and interviews.

A 60-day notice was published in the Federal Register on December 5, 2023, 88 FR 84339-84340. There was one response to public comment from a home visiting model developer. The commentor expressed concerns about the estimated burden for focus group and made suggestions for language changes including use of plain language, clarifying instructions, and providing questions in advance. In response to these comments, the burden hours for focus groups and interviews were increased, and the number of items on the MIECHV Program FVL Online Survey was reduced. Recommendations for language revisions were incorporated into the revised information collection tools. An additional information collection tool was added to this ICR to facilitate the recruitment of families for participation in a focus group (Family Focus Group Recruitment Survey). Two form names were also modified slightly: the Tribal and State MIECHV Administrators Interview Guide was renamed the MIECHV Lead Interview Guide, and the LIA Program Staff Focus Group Protocol was renamed the Home Visiting Program Staff Focus Group Protocol.

Need and Proposed Use of the Information: HRSA is seeking additional information about how the MIECHV program engages and supports families in leadership opportunities to inform and improve programs. HRSA intends to use this information to identify actionable strategies that MIECHV awardees and LIAs could take to engage families meaningfully and effectively in program decisions and to ensure that families' unique strengths, needs, cultures, and preferences drive service delivery.

Likely Respondents: MIECHV awardees that are states, nonprofit organizations, and tribes, LIA staff (program directors, coordinators, supervisors, and home visitors); and families who have been engaged in FVL activities by MIECHV-funded home visiting programs.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. Compared to the versions submitted for the 60-day approval process in December, estimated burden hours have increased as a result of adding an additional information collection activity and implementing the feedback provided in public comments during the 60-day comment period and pre-testing data collection protocols. The total annual burden hours estimated for this ICR are summarized in the table below.

Total Estimated Annualized Burden Hours
Form name | Number of respondents | Number of responses per respondent | Total responses | Average burden per response (in hours) | Total burden hours
MIECHV Program FVL Online Survey | 1000 | 1 | 1000 | 0.33 | 330
Family Focus Group Protocol | 48 | 1 | 48 | 1.50 | 72
MIECHV Lead Interview Guide | 12 | 1 | 12 | 1.50 | 18
Home Visiting Program Staff Focus Group Protocol | 48 | 1 | 48 | 1.50 | 72
Family Focus Group Recruitment Survey | 100 | 1 | 100 | 0.08 | 8
Total | 1,208 |  | 1,208 |  | 500

Maria G. Button,
Director, Executive Secretariat.

[FR Doc. 2024-07008 Filed 4-2-24; 8:45 am]

BILLING CODE 4165-15-P